DEPARTMENT OF TRANSPORTATION

Federal Aviation Administration

Notice of Intent To Request Renewal From the Office of Management and Budget (OMB) of Three Current Public Collections of Information

AGENCY: Federal Aviation Administration (FAA), DOT.

ACTION: Notice.

SUMMARY: In compliance with the Paperwork Reduction Act (44 U.S.C. 3501 et seq.), the FAA invites public comment on three currently approved public information collections which will be submitted to OMB for renewal.

DATES: Comments must be received on or before July 26, 2004.

ADDRESSES: Comments may be mailed or delivered to the FAA at the following address: Ms. Judy Street, Room 613, Federal Aviation Administration, Standards and Information Division, APF-100, 800 Independence Ave., SW., Washington, DC 20591.

FOR FURTHER INFORMATION CONTACT: Ms. Judy Street at the above address or on (202) 267-9895.

SUPPLEMENTARY INFORMATION: In accordance with the Paperwork Reduction Act of 1995, an agency may not conduct or sponsor, and a person is not required to respond to a collection of information unless it displays a currently valid OMB control number. Therefore, the FAA solicits comments on the following current collections of information in order to evaluate the necessity of the collection, the accuracy of the agency's estimate of the burden, the quality, utility, and clarity of the information to be collected, and possible ways to minimize the burden of the collection in preparation for submission to renew the clearances of the following information collections.

1. 2120-0020, Maintenance, Preventive Maintenance, Rebuilding, and Alternation. FAR Part 43 prescribes the rules governing maintenance, rebuilding, and alteration of aircraft and aircraft components, and is necessary to ensure this work is performed by qualified persons, and at proper intervals. This work is done by certified mechanics, repair stations, and air carriers authorized to perform maintenance. The current estimated annual reporting burden is 1,43,784 hours.

2. 2120-0101, Psychological Training. This report is necessary to establish qualifications of eligibility to receive voluntary psychological training and will be used as proper evidence of training. The form is completed by pilots and crewmembers for application to receive voluntary training. The current estimated annual reporting burden is 733 hours.

3. 2120-0524, High Density Airports, Slot Allocation and Transfer Methods. The FAA needs this information to allocate slots and maintain accurate records of slot transfers at the High Density Traffic Airports. The information will be provided by air carriers and commuter operators or other persons holding a slot at High Density Traffic Airports. The current estimated annual reporting burden is 3,064 hours.

Issued in Washington, DC, on May 18, 2004.
Judith D. Street,
FAA Information Collection Clearance Officer, APF-100.

[FR Doc. 04-11792 Filed 5-24-04; 8:45 am]

BILLING CODE 4910-13-M